ENVIRONMENTAL PROTECTION AGENCY

40 CFR Part 63

[EPA-HQ-OAR-2008-0708; FRL-9690-8]

RIN 2060-AQ58

National Emission Standards for Hazardous Air Pollutants for Reciprocating Internal Combustion Engines; New Source Performance Standards for Stationary Internal Combustion Engines

AGENCY: Environmental Protection Agency (EPA).

ACTION: Proposed rule; Notice of public hearing; Extension of public comment period.

SUMMARY: The EPA published in the Federal Register on June 7, 2012, the proposed rule, “National Emission Standards for Hazardous Air Pollutants for Reciprocating Internal Combustion Engines; New Source Performance Standards for Stationary Internal Combustion Engines.” The EPA was asked to hold a public hearing. Therefore, the EPA is making two announcements: First, a public hearing for the proposed, “National Emission Standards for Hazardous Air Pollutants for Reciprocating Internal Combustion Engines; New Source Performance Standards for Stationary Internal Combustion Engines” will be held on July 10, 2012, and second, the comment period for the proposed rule will be extended until August 9, 2012.

DATES: The public hearing will be held on July 10, 2012. Comments must be received by August 9, 2012.

ADDRESSES: The public hearing will be held in Room 1152 EPA East, 1201 Constitution Avenue NW., Washington, DC 20460, (202) 564-1657.

The public hearing will convene at 10:00 a.m. and will continue until 4:00 p.m. A lunch break is scheduled from 12:00 p.m. until 1:00 p.m. The EPA's Web site for the rulemaking, which includes the proposal and information about the hearing, can be found at: http://www.epa.gov/ttn/atw/rice/ricepg.html.

FOR FURTHER INFORMATION CONTACT: If you would like to present oral testimony at the public hearing, please contact Ms. Pamela Garrett, U.S. Environmental Protection Agency, Office of Air Quality Planning and Standards, Sector Policies and Programs Division (D243-01), Research Triangle Park, North Carolina 27711; telephone: (919) 541-7966; fax number: (919) 541-5450; email address: garrett.pamela@epa.gov (preferred method for registering). The last day to register to present oral testimony in advance will be Friday, July 6, 2012. If using email, please provide the following information: The time you wish to speak (morning or afternoon), name, affiliation, address, email address and telephone and fax numbers. Time slot preferences will be given in the order requests are received. Additionally, requests to speak will be taken the day of the hearing at the hearing registration desk, although preferences on speaking times may not be able to be fulfilled. If you require the service of a translator, please let us know at the time of registration.

Questions concerning the proposed rule should be addressed to Ms. Melanie King, Office of Air Quality Planning and Standards, Sector Policies and Programs Division (D243-01), Environmental Protection Agency, Research Triangle Park, North Carolina 27711; telephone number: (919) 541-2469; facsimile number: (919) 541-5450; email address: king.melanie@epa.gov.

Public hearing: The proposal for which the EPA is holding the public hearing was published in the Federal Register on June 7, 2012, and is available at: http://www.gpo.gov/fdsys/pkg/FR-2012-06-07/pdf/2012-13193.pdf and also in the docket identified below. The public hearing will provide interested parties the opportunity to present oral comments regarding the EPA's proposed standards, including data, views or arguments concerning the proposal. The EPA may ask clarifying questions during the oral presentations, but will not respond to the presentations at that time. Written statements and supporting information submitted during the comment period will be considered with the same weight as any oral comments and supporting information presented at the public hearing.

Commenters should notify Ms. Garrett if they will need specific equipment or if there are other special needs related to providing comments at the public hearing. The EPA will provide equipment for commenters to make computerized slide presentations if we receive special requests in advance. Oral testimony will be limited to 5 minutes for each commenter. The EPA encourages commenters to submit to the docket a copy of their oral testimony electronically (via email or CD) or in hard copy form.

The public hearing schedule, including lists of speakers, will be posted on the EPA's Web site at: http://www.epa.gov/ttn/atw/rice/ricepg.html. A verbatim transcript of the hearing and written statements will be included in the docket for the rulemaking. The EPA will make every effort to follow the schedule as closely as possible on the day of the hearing; however, please plan for the hearing to run either ahead of schedule or behind schedule.

How can I get copies of this document and other related information?

The EPA has established a docket for the proposed rule,

“National Emission Standards for Hazardous Air Pollutants for Reciprocating Internal Combustion Engines; New Source Performance Standards for Stationary Internal Combustion Engines” under Docket ID No. EPA-HQ-OAR-2008-0708, available at www.regulations.gov.

List of Subjects in 40 CFR Part 63

Environmental protection, Administrative practice and procedure, Air pollution control, Hazardous substances, Intergovernmental relations, Reporting and recordkeeping requirements.

Dated: June 15, 2012.
Mary E. Henigin,
Acting Director, Office of Air Quality Planning and Standards.

[FR Doc. 2012-15206 Filed 6-20-12; 8:45 am]

BILLING CODE 6560-50-P